DEPARTMENT OF TRANSPORTATION

Federal Transit Administration

Notice of Intent To Prepare an Environmental Impact Statement for the Everett Link Extension and Operations and Maintenance Facility North Project, Snohomish County, Washington

AGENCY: Federal Transit Administration (FTA), Department of Transportation (DOT).

ACTION: Notice of intent to prepare an Environmental Impact Statement (EIS).

SUMMARY: The Federal Transit Administration (FTA), as Federal lead agency, and the Central Puget Sound Regional Transit Authority (Sound Transit), as local project sponsor and joint lead agency, issue this notice to advise the public that they intend to prepare an environmental impact statement (EIS) pursuant to the National Environmental Policy Act (NEPA) for the Everett Link Extension (EVLE) and Operations and Maintenance Facility North (OMF North) Project (Project). The Project would extend Link light rail 16 miles from the existing Lynnwood City Center Station to the Everett Station area in Snohomish County, Washington, and improve connections to the regional transit system and major activity centers. The Project would also include construction of a light rail operations and maintenance facility (OMF) in Snohomish County to support the regional Link light rail program, including EVLE.

DATES: Comments related to the NEPA review of the Project must be received on or before August 28, 2025. The joint lead agencies will consider comments received after that date to the extent practicable, as well as the comments received during this NEPA scoping period and the prior Washington State Environmental Policy Act (SEPA) scoping process. Commenters who previously provided SEPA scoping comments do not need to resubmit those comments for consideration under NEPA, but may elect to do so.

ADDRESSES: Comments on the scope of the EIS should be directed to Kathy Fendt, North Corridor Environmental Manager, in one of four ways:

• Sound Transit website: https://everettlink.participate.online/;

• Email: everettlinkcomments@soundtransit.org;

• Mail: Sound Transit, 401 S. Jackson Street, Seattle, WA 98104-2826; or

• Provided by phone at 425-243-6255.

FOR FURTHER INFORMATION CONTACT: For FTA: Todd Tillinger, 206-220-7538, todd.tillinger@dot.gov. For Sound Transit: Kathy Fendt, 206-689-4856, kathy.fendt@soundtransit.org.

SUPPLEMENTARY INFORMATION: FTA and Sound Transit (the Agencies) will prepare the EIS in accordance with NEPA, FTA environmental statute (Efficient environmental reviews for project decisionmaking and One Federal Decision, 23 U.S.C. 139), FTA environmental regulations (23 CFR part 771), and SEPA. This notice initiates NEPA scoping for the EIS, provides information on the nature of the proposed transit project, invites participation in the EIS process, provides information about the purpose and need for the proposed transit project, includes general information on the range of alternatives being considered for evaluation in the EIS, and identifies potential environmental impacts to be considered. It also invites comments from Tribes, agencies, and interested members of the public on the above information and announces upcoming public scoping meetings. Alternatives being considered for evaluation in the EIS include a No Build Alternative and various Build Alternatives for the light rail line and OMF North in the EVLE corridor. The alternatives were developed through a local planning process including a Regional Transit Long-Range Plan (2014), a regional system plan of transit investments (Sound Transit 3 (ST3)), an early scoping and alternatives development process specific to the EVLE corridor under NEPA (see 86 FR 61387, November 5, 2021), and EIS scoping under SEPA. During the alternatives development process, Sound Transit worked with Tribes, agencies, and the public to identify and evaluate over 50 alignment and station alternatives and 18 sites for OMF North to determine which alternatives to take into the EIS process. Results of the early scoping, alternatives development, and SEPA EIS scoping processes and other background technical reports are available on the Project website: https://soundtransit.org/everettlink, or by contacting the Project line at 206-370-5533. FTA has determined the Project will not be evaluated as a major project as defined in 23 U.S.C. 139(a)(7). Sound Transit intends to pursue Federal funding for the Project through FTA's Capital Investments Grant program.

I. Purpose and Need for the Proposed Action

The purpose and need statement establishes the basis for developing and evaluating a range of reasonable alternatives for environmental review and assists with the identification of a Preferred Alternative. The purpose of the Project is to expand the Link light rail system from the Lynnwood City Center Link Station to the Everett Station area and provide an OMF to:

• Provide high quality, rapid, reliable, accessible, and efficient light rail transit service to communities in the Project corridor as defined through the local planning process and reflected in the ST3 Plan.

• Improve regional mobility by increasing connectivity and capacity in the EVLE corridor from the Lynnwood Transit Center to the Everett Station area to meet projected transit demand.

• Connect regional centers as described in adopted regional and local land use, transportation, and economic development plans and Sound Transit's Regional Transit Long-Range Plan (2014).

• Implement a system that is technically and financially feasible to build, operate, and maintain.

• Expand mobility for the corridor and the region's residents, including explicit consideration for those who use transit as a primary means of transportation.

• Encourage sustainable growth in station areas through support of transit-oriented development and multimodal integration in a manner that is consistent with local land use plans and policies.

• Encourage convenient and safe non-motorized access to transit stations, such as bicycle and pedestrian connections, consistent with Sound Transit's System Access Policy.

• Preserve and promote a healthy environment and economy by minimizing adverse impacts on the natural, built, and socioeconomic environments through sustainable practices.

• Provide an OMF with the capacity to receive, test, commission, store, maintain, and deploy vehicles to support the intended level of service for system-wide light rail expansion.

• Develop an OMF that supports efficient and reliable light rail service and minimizes system operating costs.

The Project is needed because:

• Chronic roadway congestion on Interstate 5 (I-5) and State Route (SR) 99, two primary highways connecting communities along the corridor, delays today's travelers, including those using transit, and degrades the reliability of bus service traversing the corridor, particularly during commute periods.

• These chronic, degraded conditions are expected to continue to worsen as the region's population and employment grow.

• Puget Sound Regional Council (PSRC), the regional metropolitan planning organization, and local plans call for high-capacity transit in the corridor consistent with PSRC's VISION 2050 (2020) and Sound Transit's Regional Transit Long-Range Plan.

• Snohomish County residents and communities, including those who use transit as a primary means of transportation, need long-term regional mobility and multimodal connectivity, as called for in the Washington State Growth Management Act.

• Increased residential and/or employment density at and around high-capacity stations and increased options for multimodal access are called for by regional and local plans.

• Prioritizing transportation investments that decrease vehicle miles traveled, and their resulting environmental impacts, is a goal of the state and region, as established in Washington state law and embodied in PSRC's VISION 2050 and Regional Transportation Plan.

• The current regional system lacks an OMF with sufficient capacity and suitable location to support the efficient and reliable long-term operations for system-wide light rail expansion, including the next phase of light rail expansion in Snohomish and King counties.

• New light rail maintenance and storage capacity needs to be available with sufficient time to accept delivery of and commission new vehicles to meet fleet expansion needs and to store existing vehicles while the new vehicles are tested and prepared.

II. Description of Proposed Action and Alternatives

Sound Transit is proposing to extend Link light rail transit service north from Lynnwood City Center Station to the Everett Station area along an alignment that is approximately 16 miles long and includes six light rail stations that serve the following areas: West Alderwood, Ash Way, Mariner, Southwest Everett Industrial Center, SR 526/Evergreen, and Everett Station. Sound Transit is also evaluating a seventh provisional station in the SR 99/Airport Road area in the EIS, but this station is not currently funded for construction. The Project also includes a new OMF that will support the system-wide Link light rail system, to be located along the alignment in Snohomish County. Information about the proposed project, early scoping, the alternatives development process, and the EIS process are available on the Project website at https://soundtransit.org/everettlink, by contacting the Project sponsor at everettlink@soundtransit.org, or the Project phone line at 206-370-5533.

The Build Alternatives are generally described as follows:

• The Link light rail alternatives would run elevated from the southern end of the Project, through the Alderwood Mall area then return to the I-5, corridor, south of I-405. The alternatives would continue north as either elevated or at-grade configurations along I-5, passing through the Ash Way area and turning west along 128th Street SW in the Mariner area. The alternatives would continue along Airport Road until turning east in the SW Everett Industrial Center area and following SR 526 until it meets I-5. The alternatives would then continue north, with tail tracks terminating beyond the elevated station options near the Everett Station area.

• Three OMF North site alternatives are currently under consideration: south of the proposed SR 99/Airport Road station area and on the western side of SR 99; on the east side of Airport Road between the SR 99/Airport Road and SW Everett Industrial Center stations across from Seattle Paine Field International Airport; and on the north side of SR 526 generally between SR 526 and 75th Street SW, east of 16th Avenue W.

III. Summary of Expected Impacts

FTA and Sound Transit will evaluate (with input from Tribes, agencies, and the public) the potential impacts of the alternatives on the natural, built, and socioeconomic environments. Likely areas of investigation include transportation, land use and consistency with applicable plans, land acquisition and displacements, socioeconomics, park and recreation resources, historic and cultural resources, visual and aesthetic qualities, air quality, noise and vibration, energy use, safety and security, and ecosystems, including threatened and endangered species and wetlands. The EIS will evaluate short-term construction impacts and long-term operational impacts. The EIS will also propose measures to avoid, minimize, or mitigate significant adverse impacts.

IV. Anticipated Federal Permits and Other Authorizations

The scoping process and agency coordination will identify permits and approvals required from Tribes and Federal, state, and local agencies, and these will be listed in the EIS. FTA and Sound Transit anticipate the following Federal permits and authorizations may include:

• Federal Transit Administration

○ National Historic Preservation Act, Section 106 Review

• United States Army Corps of Engineers

○ Clean Water Act, Section 404 (including Washington State Department of Ecology Water Quality Certification: Clean Water Act Section 401)

• United States Fish and Wildlife Service

○ Endangered Species Act Consultation

• National Oceanic and Atmospheric Administration Fisheries Service

○ Endangered Species Act Consultation

○ Magnuson-Stevens Conservation and Management Act, Essential Fish Habitat Consultation

V. Schedule for the Decisionmaking Process

Below is a tentative schedule for the decisionmaking process, including environmental review milestones:

• Draft EIS publication: early 2026, for public review and comment.

• Identification, confirmation, or modification of the Preferred Alternative: summer 2026.

• Final EIS publication: summer 2027.

• Record of Decision: summer 2027.

As noted in the tentative schedule, the Agencies intend to complete the EIS for the Project within two years. The Agencies will accept public comments on the scope of the EIS until August 28, 2025. The Agencies will then consider those comments as they prepare the Draft EIS. Sound Transit expects the Draft EIS will be available for a minimum of 45 days for the public comment period, in early 2026. The Agencies will announce the availability of the Draft EIS in the Federal Register and via local media outlets. The Draft EIS will be distributed and available for public and agency review and comment prior to the public hearing. The Agencies will consider substantive comments timely submitted and then anticipate publishing a Final EIS by summer 2027. The Final EIS will identify a preferred alternative and potential mitigation commitments. Following the issuance of the Final EIS, the Sound Transit Board will make its decision about which route and stations and which OMF North location to build. FTA would then issue its Record of Decision (ROD), which includes specific mitigation commitments for the Project. The Agencies expect that all Federal environmental authorization decisions for the construction of the Project will be completed prior to or within a reasonable period following issuance of the ROD.

Notices of public meetings, including hearings, will be given through a variety of media providing the time and place of the meeting along with other relevant information. Meeting date, time, and location information can be found on the Project website at: https://soundtransit.org/everettlink. Public meeting locations will comply with the Americans with Disabilities Act. Persons requesting special accommodations should contact Sound Transit by calling 800-201-4900/TTY Relay 711 or emailing accessibility@soundtransit.org.

Susan K. Fletcher,
Regional Administrator, FTA Region 10.

[FR Doc. 2025-14318 Filed 7-28-25; 8:45 am]

BILLING CODE 4910-57-P